DEPARTMENT OF JUSTICE

Notice of Lodging of Consent Decree Under the Safe Drinking Water Act

Notice is hereby given that on February 24, 2012 a proposed Consent Decree (“Decree”) in United States v. Roy Stricklin, Civil Action No. 11-CV-158-J, was lodged with the United States District Court for the District of Wyoming.

In this action the United States sought permanent injunctive relief and civil penalties under the Safe Drinking Water Act (“SDWA”), 42 U.S.C. 300f-300j-26, resulting from violations of the National Primary Drinking Water Regulations (“NPDWRs”) at two trailer courts that Stricklin owns in Alcova, Wyoming, known as the Alcova Dam Trailer Park and the Eagle Creek RV & Trailer Court. The Decree requires Stricklin to comply with the NPDWRs in the future, to pay a civil penalty of $28,000, payable in four yearly installments, and to pay stipulated penalties in the event of future NPDWR violations.

For a period of thirty (30) days from the date of this publication, the United States Department of Justice will receive comments relating to the Decree. Comments should be sent by U.S. mail to the Assistant Attorney General, Environment and Natural Resources Division, P.O. Box 7611, U.S. Department of Justice, Washington, DC 20044-7611, or by email to pubcomment-ees.enrd@usdoj.gov. The comments should refer to United States v. Roy Stricklin, D.J. Ref. 90-5-1-1-09744.

During the public comment period, the Decree will be posted on the following Department of Justice Web site: http://www.usdoj.gov/enrd/Consent_Decree.html. A copy of the Consent Decree may also be obtained by U.S. mail from the Consent Decree Library, P.O. Box 7611, U.S. Department of Justice, Washington, DC 20044-7611; by email from “Consent Decree Copy” EESCDCopy.ENRD@USDOJ.gov; or by facsimile transmission from “Consent Decree Copy” at fax number 202-514-0097, telephone confirmation number: 202-514-5271. Anyone requesting a copy from the Consent Decree Library should enclose a check in the amount of $5.75 (25 cents per page reproduction cost) payable to the U.S. Treasury.

Robert Brook,
Assistant Section Chief, Environmental Enforcement Section, Environment and Natural Resources Division.

[FR Doc. 2012-5725 Filed 3-8-12; 8:45 am]

BILLING CODE 4410-15-P